DEPARTMENT OF LABOR

Employment and Training Administration

[TA-W-64,067]

Hillerich and Bradsby Company, Ontario, CA; Notice of Termination of Investigation

Pursuant to Section 221 of the Trade Act of 1974, as amended, an investigation was initiated on September 17, 2008 in response to a petition filed by the International Brotherhood of Teamsters, Local 986, on behalf of workers of Hillerich and Bradsby Company, Ontario, California.

All workers of Hillerich and Bradsby Company, Louisville Slugger Division, Ontario, California, including on-site leased workers from Select Staffing, are covered by an existing certification, TA-W-63,983. Consequently, the investigation has been terminated.

Signed at Washington, DC, this 24th day of September 2008.
Linda G. Poole,
Certifying Officer, Division of Trade Adjustment Assistance.

[FR Doc. E8-23295 Filed 10-2-08; 8:45 am]

BILLING CODE 4510-FN-P